SECURITIES AND EXCHANGE COMMISSION

[File No. 500-1]

In the Matter of Future Canada China Environment Inc.; Order of Suspension of Trading

January 28, 2009.

It appears to the Securities and Exchange Commission that the public interest and the protection of investors require a suspension of trading in the securities of Future Canada China Environment Inc. Questions have arisen concerning recent trading activity in the company's stock during which its share price increased from $0.92 to $28.50. Questions have also arisen concerning the accuracy and adequacy of publicly available information regarding its potential acquisition of another company. Future Canada China Environment Inc., a company that has made public filings with the Commission, is quoted on the OTC Bulletin Board and Pink Sheets operated by Pink OTC Markets Inc. under the ticker symbol “FCCE.”

The Commission is of the opinion that the public interest and the protection of the investors require a suspension of trading in securities of the above-listed company.

Therefore, it is ordered, pursuant to Section 12(k) of the Securities Exchange Act of 1934, that trading in the above-listed company is suspended for the period from 9:30 a.m. EST, January 28, 2009, through 11:59 p.m. EST, on February 10, 2009.

By the Commission.
Elizabeth M. Murphy,
Secretary.

[FR Doc. E9-2159 Filed 1-28-09; 11:15 am]

BILLING CODE 8011-01-P